DEPARTMENT OF COMMERCE

U.S. Census Bureau

Proposed Information Collection; Comment Request; 2013 Alternative Contact Strategy Test

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before October 9, 2012.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Amy O'Hara, Census Bureau, CARRA Room 6H103, Washington, DC 20233, 301-763-5757 (or via the Internet at amy.b.ohara@census.gov).

SUPPLEMENTARY INFORMATION

I. Abstract

Decennial censuses have relied on primarily two modes of data collection, mail and in person interview. The Census Bureau seeks to explore alternative modes of contact and collection in an effort to reduce costs and increase self-response. This research will be conducted through a series of projects and tests throughout the decade. Contact involving cellular telephone numbers, text messages, and email are under investigation, extending the Census Bureau's existing knowledge and use of mail, landline telephone, and internet modes. The 2013 Alternative Contact Strategy Test is the first test to support this research.

The Census Bureau will test alternate contact information through a self-response test. Telephone numbers obtained from commercial vendors will be used to contact 40,000 households. Information on the household's communication and contact modes will be collected. The information will be analyzed to inform future contact strategies for 2020 Research and Testing Project tests and design options for the 2020 Census.

II. Method of Collection

The Census Bureau will conduct the 2013 Alternative Contact Strategy Test with a national sample of 40,000 households, utilizing Computer Assisted Telephone Interviews. The Census Bureau estimates the response rate to be 65 percent. Interviewers will call households to confirm and collect contact information such as address, telephone, cell, and email.

The Census Bureau plans to conduct the 2013 Alternative Contact Strategy Test data collection in early winter of 2013. The specific data collection start and end dates along with the duration of the data collection period are still under consideration. The Census Bureau, however, expects that the duration of the data collection period will be about a month.

III. Data

OMB Control Number: None.

Form Number: To be determined.

Type of Review: Regular submission.

Affected Public: Individuals or Households.

Estimated Number of Respondents: 40,000.

Estimated Time per Response: 7 minutes.

Estimated Total Annual Burden Hours: 4666.7 hours (280,000 minutes).

Estimated Total Annual Cost: There is no cost to the respondent other than the time to answer the information request.

Respondents Obligation: Mandatory.

Legal Authority: Title 13 U.S.C. Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 2, 2012.
Glenna Mickelson,
Management Analyst, Office of the Chief Information Officer.

[FR Doc. 2012-19333 Filed 8-7-12; 8:45 am]

BILLING CODE 3510-07-P